DEPARTMENT OF DEFENSE

Office of the Secretary

Nationwide TRICARE Demonstration Project

AGENCY: Office of the Secretary of Defense for Health Affairs/TRICARE Management Activity, DoD.

ACTION: Notice extending deadline for demonstration project.

SUMMARY: On Monday, November 5, 2001, the Department of Defense (DoD) published a notice of a nationwide TRICARE demonstration project (66 FR 55928-55930). On Wednesday, November 12, 2003, the DoD published a notice (68 FR 64087) to extend through October 31, 2004, the demonstration project scheduled to end on November 1, 2003. This notice is to advise interested parties of the continuation of the demonstration project in which the DoD Military Health System addresses unreasonable impediments to the continuity of health care encountered by certain family members of Reservists and National Guardsmen called to active duty in support of a federal/contingency operation. The demonstration previously scheduled to end on October 31, 2004, is now extended through October 31, 2005.

FOR FURTHER INFORMATION CONTACT: The Office of the Assistant Secretary of Defense for Health Affairs, TRICARE Management Activity, TRICARE Operations Directorate at (703) 681-0039.

SUPPLEMENTARY INFORMATION: The continued deployment of about 160,000 troops in support of Noble Eagle/Operation Enduring Freedom and Operation Iraqi Freedom in FY 2004 and FY 2005 warrants the continuation of the demonstration to support the health care needs and morale of family members of activated Reservists and Guardsmen. The impact if the demonstration is not extended includes higher out-of-pocket costs and potential inability to continue to use the same provider for ongoing care. There are three separate components to the demonstration. First, those who participate in TRICARE Standard will not be responsible for paying the TRICARE Standard deductible. By law, the TRICARE Standard deductible for active duty family members in $150 per individual, $300 per family ($50/$150 for E4s and below). The second component extends TRICARE payments up to 115 percent of the TRICARE maximum allowable charge, less the applicable patient copayment, for care received from a provider that does not participate (accept assignment) under TRICARE to the extent necessary to ensure timely access to care and clinically appropriate continuity of care. The third component is waiver of the non-availability statement requirement for non-emergency inpatient care. Information and experience gained as part of this demonstration project will provide the foundation for longer-term solutions in the event of future national emergencies. This demonstration project is being conducted under the authority of 10 U.S.C. 1092.

Dated: September 28, 2004.
L.M. Bynum,
Alternate OSD Federal Register Liaison Officer, Department of Defense.

[FR Doc. 04-22167 Filed 9-30-04; 8:45 am]

BILLING CODE 5001-06-M